FEDERAL COMMUNICATIONS COMMISSION

Information Collection Being Reviewed by the Federal Communications Commission Under Delegated Authority

AGENCY: Federal Communications Commission.

ACTION: Notice and request for comments.

SUMMARY: As part of its continuing effort to reduce paperwork burdens, and as required by the Paperwork Reduction Act (PRA) of 1995 (44 U.S.C. 3501-3520), the Federal Communications Commission (FCC or the Commission) invites the general public and other Federal agencies to take this opportunity to comment on the following information collection. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid control number. No person shall be subject to any penalty for failing to comply with a collection of information subject to the PRA that does not display a valid Office of Management and Budget (OMB) control number.

DATES: Written PRA comments should be submitted on or before April 11, 2014. If you anticipate that you will be submitting comments, but find it difficult to do so within the period of time allowed by this notice, you should advise the contact listed below as soon as possible.

ADDRESSES: Direct all PRA comments to Cathy Williams, FCC, via email PRA@fcc.gov PRA@fcc.gov and to Cathy.Williams@fcc.gov.

FOR FURTHER INFORMATION CONTACT: For additional information about the information collection, contact Cathy Williams at (202) 418-2918.

SUPPLEMENTARY INFORMATION: OMB Control Number: 3060-0767.

Title: Sections 1.2110, 1.2111 and 1.2112, Auction and Licensing Disclosures—Ownership and Small Business Status.

Form Number: N/A.

Type of Review: Extension of a currently approved collection.

Respondents: Business or other for-profit, Not-for-profit institutions, and State, local or tribal government.

Number of Respondents: 300 respondents; 300 responses.

Estimated Time per Response: .50 hours—2 hours.

Frequency of Response: On occasion reporting requirement, Third party disclosure requirement, and Recordkeeping requirement.

Total Annual Burden: 450 hours.

Total Annual Costs: $30,000.

Privacy Act Impact Assessment: No impact(s).

Nature and Extent of Confidentiality: There is no need for confidentiality. However, if applicants want to seek confidential treatment of their information, they may do so under 47 CFR 0.459 of the Commission's rules.

Needs and Uses: A request for extension of this information collection (no change in requirements) will be submitted to the Office of Management and Budget (OMB) after this 60-day comment period in order to obtain the full three year clearance from OMB. Beginning first on May 5, 1997, OMB approved under OMB Control No. 3060-0767, the Commission's collections of information pursuant to sections 1.2110, 1.2111, and 1.2112, 47 CFR 1.2110, 1.2111, and 1.2112, and their predecessors, regarding ownership and small business status of parties involved with Commission licenses. The Commission collects this information in several contexts, including when determining the eligibility of applicants to participate in Commission auctions, the eligibility of parties to hold a Commission authorization, the eligibility of parties to whom authorizations are being transferred, and the repayment by authorization holders of small business bidding credits received in Commission auctions. The information requirement will enable the Commission to ensure that no bidder gains an unfair advantage over other bidders in its spectrum auctions and thus enhance the competitiveness and fairness of its auctions. The information collected will be reviewed and, if warranted, referred to the Commission's Enforcement Bureau for possible investigation and administrative action. The Commission may also refer allegations of anticompetitive auction conduct to the Department of Justice for investigation. OMB has approved separately the routine collections of information pursuant to these Commission rules in applications to participate in Commission auctions, FCC Form 175, OMB Control No. 3060-0600, and in Commission licensing applications, FCC Form 601, OMB Control No. 3060-0798. On occasion, the Commission may collect information pursuant to these rules to clarify information provided in these forms or in circumstances to which the standard forms may not directly apply. Accordingly, the Commission requests an extension of the approval of OMB Control No. 3060-0767.

Federal Communications Commission.
Marlene H. Dortch,
Secretary, Office of the Secretary, Office of Managing Director.

[FR Doc. 2014-02828 Filed 2-7-14; 8:45 am]

BILLING CODE 6712-01-P